DEPARTMENT OF HEALTH AND HUMAN SERVICES

Health Resources and Services Administration

National Vaccine Injury Compensation Program; List of Petitions Received

AGENCY: Health Resources and Services Administration, Department of Health and Human Services.

ACTION: Notice.

SUMMARY: HRSA is publishing this notice of petitions received under the National Vaccine Injury Compensation Program (the program), as required by the Public Health Service (PHS) Act, as amended. While the Secretary of HHS is named as the respondent in all proceedings brought by the filing of petitions for compensation under the program, the United States Court of Federal Claims is charged by statute with responsibility for considering and acting upon the petitions.

FOR FURTHER INFORMATION CONTACT: For information about requirements for filing petitions, and the program in general, contact the Acting Clerk of the Court, Lisa L. Reyes, United States Court of Federal Claims, 717 Madison Place NW., Washington, DC 20005, (202) 357-6400. For information on HRSA's role in the program, contact the Director, National Vaccine Injury Compensation Program, 5600 Fishers Lane, Room 08N146B, Rockville, MD 20857; (301) 443-6593, or visit our Web site at: http://www.hrsa.gov/vaccinecompensation/index.html.

SUPPLEMENTARY INFORMATION: The program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2017, through April 30, 2017. This list provides the name of the petitioner, city and state of vaccination (if unknown then city and state of person or attorney filing claim), and case number. In cases where the Court has redacted the name of the petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the program.

Dated: May 19, 2017.
George Sigounas,
Administrator.

List of Petitions Filed

1. Anissa E. Rogers on behalf of L. C., Fullerton, California, Court of Federal Claims No: 17-0470V.

2. John Solak, Binghamton, New York, Court of Federal Claims No: 17-0472V.

3. Dolores Justice, Pittsburgh, Pennsylvania, Court of Federal Claims No: 17-0476V.

4. Ruben Abeyta, Flagstaff, Arizona, Court of Federal Claims No: 17-0477V.

5. Hillary Adams, Phoenix, Arizona, Court of Federal Claims No: 17-0478V.

6. Emma Sullivan, Phoenix, Arizona, Court of Federal Claims No: 17-0480V.

7. Joanne Gurney, Fall River, Massachusetts, Court of Federal Claims No: 17-0481V.

8. Daniel Jenson, Hillsboro, North Dakota, Court of Federal Claims No: 17-0482V.

9. Bruce Johnson, Jacksonville, Florida, Court of Federal Claims No: 17-0484V.

10. Brooke Lee Guelker, Dallas, Texas, Court of Federal Claims No: 17-0485V.

11. Barbara Perkins, Garden City, Kansas, Court of Federal Claims No: 17-0487V.

12. Sonja Pearson, Hinsdale, Illinois, Court of Federal Claims No: 17-0489V.

13. Yildiz Kochman, Moscow, Idaho, Court of Federal Claims No: 17-0491V.

14. Suzanne E. McAndrews and Timothy R. McAndrews on behalf of P. C. M., New York, New York, Court of Federal Claims No: 17-0494V.

15. Yvonne Diaz, Waterbury, Connecticut, Court of Federal Claims No: 17-0496V.

16. Blanche Berkowitz, Prescott, Arizona, Court of Federal Claims No: 17-0500V.

17. Sandra Bravo and Frank Bravo on behalf of B. V. B., Highland Park, California, Court of Federal Claims No: 17-0501V.

18. Allyson L. Parziale, Waltham, Massachusetts, Court of Federal Claims No: 17-0503V.

19. Eric Lee, White City, Oregon, Court of Federal Claims No: 17-0504V.

20. Carl Forgey, Marshfield, Missouri, Court of Federal Claims No: 17-0505V.

21. Jodi Gitautis, Boston, Massachusetts, Court of Federal Claims No: 17-0506V.

22. Cynthia Lowery Grady, Sylva, North Carolina, Court of Federal Claims No: 17-0509V.

23. Mary Ludwig, Aberdeen, South Dakota, Court of Federal Claims No: 17-0510V.

24. Katherine Berry, San Antonio, Texas, Court of Federal Claims No: 17-0511V.

25. Lyllian Acevedo, Milwaukee, Wisconsin, Court of Federal Claims No: 17-0512V.

26. Marlie Barlow, Hemet, California, Court of Federal Claims No: 17-0513V.

27. Julia Carson, San Diego, California, Court of Federal Claims No: 17-0514V.

28. Gregory Bradley, Plymouth, New Hampshire, Court of Federal Claims No: 17-0515V.

29. Sonya Ball, Washington, District of Columbia, Court of Federal Claims No: 17-0516V.

30. Donna Moore, New Orleans, Louisiana, Court of Federal Claims No: 17-0518V.

31. Deborah Whitt, Rochester, New York, Court of Federal Claims No: 17-0519V.

32. Erica Linegar, Branson West, Missouri, Court of Federal Claims No: 17-0521V.

33. William Willingham, Tallahassee, Florida, Court of Federal Claims No: 17-0522V.

34. Kathleen Amato, Washington, District of Columbia, Court of Federal Claims No: 17-0523V.

35. Kendall Vuong on behalf of K. A., Roseville, California, Court of Federal Claims No: 17-0525V.

36. Tari Hafner, Fulton, New York, Court of Federal Claims No: 17-0526V.

37. Heather L. Foster, Round Rock, Texas, Court of Federal Claims No: 17-0527V.

38. Jamie Choi, La Habra, California, Court of Federal Claims No: 17-0529V.

39. Shaureya Brunson on behalf of T. A., Deceased, Cincinnati, Ohio, Court of Federal Claims No: 17-0530V.

40. Tara Elvira on behalf of D. E., La Cañada, California, Court of Federal Claims No: 17-0531V.

41. Kay Pate, Cincinnati, Ohio, Court of Federal Claims No: 17-0533V.

42. Michael Hall, Tiffin, Ohio, Court of Federal Claims No: 17-0536V.

43. Shannon Jackson, Bartlett, Tennessee, Court of Federal Claims No: 17-0538V.

44. Loretta Shirley, Chicago, Illinois, Court of Federal Claims No: 17-0539V.

45. Maria America and Rui America on behalf of A. A., Vienna, Virginia, Court of Federal Claims No: 17-0542V.

46. Natasha Itchkavich, Wolfeboro, New Hampshire, Court of Federal Claims No: 17-0544V.

47. Sky Sorensen, Madras, Oregon, Court of Federal Claims No: 17-0546V.

48. Kary Valentine on behalf of M. L. V., Mars, Pennsylvania, Court of Federal Claims No: 17-0547V.

49. Bala Muccala, Phoenix, Arizona, Court of Federal Claims No: 17-0548V.

50. Pedro Morillo, Pleasanton, Kansas, Court of Federal Claims No: 17-0550V.

51. Kim Saffran, Durham, North Carolina, Court of Federal Claims No: 17-0551V.

52. Christopher T. Wynn, Summerville, South Carolina, Court of Federal Claims No: 17-0554V.

53. Lorin T. Pruett, Fairfax, Virginia, Court of Federal Claims No: 17-0561V.

54. Deborah Knight, Milton, Florida, Court of Federal Claims No: 17-0562V.

55. Diana Wahl, Peachtree City, Georgia, Court of Federal Claims No: 17-0563V.

56. Suzanne Demitor, Walla Walla, Washington, Court of Federal Claims No: 17-0564V.

57. Daniele Tucker, Phoenix, Arizona, Court of Federal Claims No: 17-0566V.

58. Margaret E. Spencer, Seattle, Washington, Court of Federal Claims No: 17-0567V.

59. Beverly Rand, Boston, Massachusetts, Court of Federal Claims No: 17-0568V

60. Ivory Odom, St. Louis, Missouri, Court of Federal Claims No: 17-0569V.

61. Gina Cegielski, Washington, District of Columbia, Court of Federal Claims No: 17-0570V.

62. Penny Nicol Kurth, Washington, District of Columbia, Court of Federal Claims No: 17-0571V.

63. Roger Green on behalf of Estate of Linda Mae Green, Deceased, Chicago, Illinois, Court of Federal Claims No: 17-0573V.

64. Paul Derber and Catherine Derber on behalf of D. D., Seattle, Washington, Court of Federal Claims No: 17-0574V.

65. Jennifer Duft, Beverly Hills, California, Court of Federal Claims No: 17-0575V.

66. Laura Shanahan, Beverly Hills, California, Court of Federal Claims No: 17-0576V.

67. Leora LaClair-Montague, Dresher, Pennsylvania, Court of Federal Claims No: 17-0577V.

[FR Doc. 2017-11185 Filed 5-30-17; 8:45 am]

BILLING CODE 4165-15-P